DEPARTMENT OF LABOR

Employment and Training Administration

[TA-W-40,148]

PPG Industries Fiberglass Products Shelby, North Carolina; Notice of Termination of Investigation

Pursuant to section 221 of the Trade Act of 1974, an investigation was initiated on September 28, 2001 in response to a petition filed on behalf of workers at PPG Industries Fiberglass Products, Shelby, North Carolina.

The petitioner requested that the petition be withdrawn. Consequently, further investigation in this case would serve no purpose, and the investigation has been terminated.

Signed in Washington, DC this 22nd day of October, 2001.
Linda G. Poole,
Certifying Officer, Division Trade Adjustment Assistance.

[FR Doc. 01-27796 Filed 11-5-01; 8:45 am]

BILLING CODE 4510-30-M